NUCLEAR REGULATORY COMMISSION

10 CFR Parts 50 and 52

[NRC-2023-0187]

Regulatory Guide: Fire Protection for Nuclear Power Plants

AGENCY: Nuclear Regulatory Commission.

ACTION: Final guide; issuance.

SUMMARY: The U.S. Nuclear Regulatory Commission (NRC) is issuing Revision 5 to Regulatory Guide (RG) 1.189, “Fire Protection for Nuclear Power Plants.” It is being issued to correct typographic errors that appeared in RG 1.189, Revision 4 of the same name. In addition, Revision 5 contains edits to conform with the current template for RGs and fixes to a few reference numbering errors. The changes in Revision 5 are intended to improve clarity and do not substantially alter the staff's regulatory guidance.

DATES: Revision 5 to RG 1.189 is available on November 8, 2023.

ADDRESSES: Please refer to Docket ID NRC-2023-0187 when contacting the NRC about the availability of information regarding this document. You may obtain publicly available information related to this document using any of the following methods:

• Federal Rulemaking Website: Go to https://www.regulations.gov and search for Docket ID NRC-2023-0187. Address questions about Docket IDs in Regulations.gov to Stacy Schumann; telephone: 301-415-0624; email: Stacy.Schumann@nrc.gov. For technical questions, contact the individuals listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

Revision 5 to RG 1.189 and the regulatory analysis may be found in ADAMS under Accession Nos. ML23214A287 and ML23214A295, respectively.

Regulatory guides are not copyrighted, and NRC approval is not required to reproduce them.

FOR FURTHER INFORMATION CONTACT: Charles Moulton, Office of Nuclear Reactor Regulation, telephone: 301-415-2751; email: Charles.Moulton@nrc.gov and Michael Eudy, Office of Nuclear Regulatory Research, telephone: 301-415-3104; email: Michael.Eudy@nrc.gov. Both are staff of the U.S. Nuclear Regulatory Commission, Washington, DC 20555-0001.

SUPPLEMENTARY INFORMATION:

I. Discussion

The NRC is issuing a revision in the NRC's “Regulatory Guide” series. This series was developed to describe methods that are acceptable to the NRC staff for implementing specific parts of the agency's regulations, to explain techniques that the staff uses in evaluating specific issues or postulated events, and to describe information that the staff needs in its review of applications for permits and licenses.

The NRC typically seeks public comment on a draft version of a RG by announcing its availability for comment in the Federal Register. However, as explained in NRC's Management Directive (MD) 6.6 “Regulatory Guides,” (ADAMS Accession No. ML22010A233) the NRC may directly issue a final RG without a draft version or public comment period if the changes to the RG are non-substantive. In addition, the NRC considers Revision 5 of RG 1.189 as an Administratively Changed Guide per MD 6.6.

II. Additional Information

The NRC issued Revision 4 of RG 1.189 on May 28, 2021 (86 FR 28916), to describe an approach that is acceptable to the NRC staff to meet the regulatory requirements in the NRC's regulations governing a civilian nuclear power generating plant's fire protection program. Revision 5 to RG 1.189 is being issued to correct typographic errors that previously appeared in Section 5.3.1.1, “Protection for the Safe-Shutdown Success Path,” in RG 1.189, Revision 4. This section contains two paragraphs that were incorrectly labeled. On page 79 of the RG, the paragraph currently identified as “c” is incorrect, in that, that paragraph is correctly part of item “b.” There is a conforming change where the current “d” should be “c.” In addition, RG 1.189 contains edits to conform with the current template for RGs and fixes to a few reference numbering errors. The changes in Revision 5 are intended to improve clarity and do not substantially alter the staff's regulatory guidance.

As noted in the Federal Register on December 9, 2022 (87 FR 75671), this document is being published in the “Rules” section of the Federal Register to comply with publication requirements under 1 CFR chapter I.

III. Congressional Review Act

This RG is a rule as defined in the Congressional Review Act (5 U.S.C. 801-808). However, the Office of Management and Budget has not found it to be a major rule as defined in the Congressional Review Act.

IV. Backfitting, Forward Fitting, and Issue Finality

Issuance of RG 1.189, Revision 5, does not constitute backfitting as defined in section 50.109 of title 10 of the Code of Federal Regulations (10 CFR), “Backfitting” (Backfit Rule), and is not otherwise inconsistent with the issue finality provisions in 10 CFR part 52. The changes in Revision 5 of RG 1.189 are limited to editorial changes to improve clarity and the correction of a title. These changes do not fall within the kinds of agency actions that constitute backfitting or are subject to limitations in the issue finality provisions of part 52. Accordingly, the NRC did not address the Backfit Rule or issue finality provisions of part 52.

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: November 2, 2023.
For the Nuclear Regulatory Commission.
Stephen M. Wyman,
Acting Chief, Regulatory Guide and Programs, Management Branch, Division of Engineering, Office of Nuclear Regulatory Research.

[FR Doc. 2023-24621 Filed 11-7-23; 8:45 am]

BILLING CODE 7590-01-P